DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to 740 entries on OFAC's Specially Designated Nationals and Blocked Persons List (SDN List), Non-SDN Menu Based Sanctions List (NS-MBS List), and Sectoral Sanctions Identifications List (SSI List).

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List, NS-MBS List, SSI List, and additional information concerning OFAC sanctions programs are available on OFAC's website (www.treasury.gov/ofac).

Notice of OFAC Actions

On August 2, 2017, the President signed into law the “Countering America's Adversaries Through Sanctions Act” (CAATSA), Public Law 115-44. Section 228 of CAATSA amends the Sovereignty, Integrity, Democracy, and Economic Stability of Ukraine Act (SSIDES), appending a new Section 10, codified at 22 U.S.C. 8909. Section 10 of SSIDES mandates the imposition of sanctions with respect to a foreign person determined to have knowingly, on or after August 2, 2017, facilitated a significant transaction or transactions, including deceptive or structured transactions, for or on behalf of any person subject to sanctions pursuant to, inter alia, Executive Order 13660 of March 6, 2014, Executive Order 13661 of March 16, 2014, Executive Order 13662 of March 20, 2014, Executive Order 13685 of December 19, 2014, or SSIDES. Accordingly, on April 29, 2022, OFAC added the reference feature “Secondary sanctions risk: Ukraine-/Russia-Related Sanctions Regulations, 31 CFR 589.201 and/or 589.209” to the 740 SDN List, NS-MBS List, and SSI List entries listed below. On April 29, 2022, OFAC also updated the SDN List entries of two individuals listed below that were previously tagged “CAATSA-Russia” to the new “SSIDES” reference tag. The individuals were originally designated pursuant to SSIDES, as amended by Section 228 of CAATSA. The SSIDES tag more specifically identifies the authority under which these two individuals were designated.

Individuals

BILLING CODE 4810-AL-P

Dated: May 2, 2022.
Andrea Gacki,
Director, Office of Foreign Assets Control, U.S. Department of the Treasury.

[FR Doc. 2022-09721 Filed 6-3-22; 8:45 am]

BILLING CODE 4810-AL-C